NATIONAL SCIENCE FOUNDATION

National Science Board; Notice of Delegation of Authority

In accordance with Section 1863(e)(2) of the National Science Foundation Act, as amended, the National Science Board (Board) hereby gives notice in regards to a delegation of authority provided to the Director, National Science Foundation (NSF), as follows:

Per resolution adopted unanimously at the National Science Board meeting on February 16, 2011, the Board revised its earlier award-approval delegation to the NSF Director by increasing the award threshold requiring Board approval from “1 percent or more of the awarding Directorate's or Office's prior year current plan or $3 million—whichever is greater”—to the greater of either 1 percent or more of the awarding Directorate's or Office's prior year current plan or 0.1 percent or more of the prior year total NSF budget.

The Board also added a provision to the delegation to highlight existing NSF policy requiring the NSF Director to make no award from the Major Research Equipment and Facilities Construction (MREFC) account without the prior approval of the Board, as required by law.

Finally, the Board clarified a previous delegation by making clear that in the case of procurements requiring Board approval, when the Board approves or authorizes the Director to make an award and no amount is specified in the Board resolution, the Director may subsequently amend the award to change the expiration date of the award and/or to commit additional sums not to exceed the lesser of 10 million dollars or 20 percent of the contract ceiling award amount.

Point of contact is: Jennie Moehlmann, National Science Board Office, 4201 Wilson Blvd., Arlington, VA 22230. Telephone: (703) 292-7000.

Daniel A. Lauretano,
Counsel to the National Science Board.

[FR Doc. 2011-4856 Filed 3-3-11; 8:45 am]

BILLING CODE 7555-01-P